Proclamation 10694 of December 29, 2023

National Mentoring Month, 2024

By the President of the United States of America

A Proclamation

During National Mentoring Month, we celebrate the millions of mentors across the country who step up and give their time, care, and hearts to make sure every young person in our Nation has a fair shot at the American Dream.

For most young people, a bond or even a conversation with someone who believes in them can make a tremendous difference in their lives, exposing them to new goals, new ideas, and new ways of doing things. Since day one, my Administration has been working to support those kinds of relationships—in schools, in communities, and in the workforce. Through the American Rescue Plan, we secured a historic $130 billion for America's K-12 schools, which helped put more teachers in classrooms and more counselors, social workers, and supportive staff in our schools. States and districts have also used these investments to provide high-quality tutoring and summer and after-school programs for students. Further, it boosted funding for AmeriCorps to expand its service options and hire new mentors to volunteer in our communities. My Administration also launched the National Partnership for Student Success last year, with a goal of recruiting 250,000 adults by the summer of 2025 to encourage, tutor, and coach young people as they chart a path forward. At the same time, working with labor unions, we have made historic investments in pre-apprenticeship and Registered Apprenticeship programs that provide guidance and skills to help young people build meaningful careers. In addition, we created the American Climate Corps—a workforce training and service initiative that will put more than 20,000 Americans to work in clean energy, conservation, and climate resilience jobs.

These programs give young people a chance to connect with others—to discover who they are, what they care about, and how to achieve their dreams. Any one of us can have a positive impact on a young person's life if we take the time to let them know that someone is on their side. Doing so, often has a tremendously powerful impact on a mentor's life as well. During National Mentoring Month, I urge Americans of all ages—friends, neighbors, college students, coaches, employers, community and faith leaders, and everyday people just looking to make a difference—to visit americorps.gov/serve and partnershipstudentsuccess.org to learn more about becoming a mentor or tutor.

The greatness of a nation is measured in part by how it prepares its next generation to succeed. Ours is a great Nation, and together, as mentors, we can each change a young person's life for the better—and with it, help guarantee our country a future of unlimited possibilities.

NOW, THEREFORE, I, JOSEPH R. BIDEN JR., President of the United States of America, by virtue of the authority vested in me by the Constitution and the laws of the United States, do hereby proclaim January 2024 as National Mentoring Month. I call upon Americans across the country to observe this month with mentoring, appropriate ceremonies, activities, and programs.

IN WITNESS WHEREOF, I have hereunto set my hand this twenty-ninth day of December, in the year of our Lord two thousand twenty-three, and of the Independence of the United States of America the two hundred and forty-eighth.

[FR Doc. 2024-00053

Filed 1-3-24; 8:45 am]

Billing code 3395-F4-P